DEPARTMENT OF THE INTERIOR

Bureau of Land Management

[ES-930-1310-FI; MSES 56250]

Notice of Proposed Reinstatement of Terminated Oil and Gas Lease, Mississippi

AGENCY: Bureau of Land Management, Interior.

ACTION: Notice.

SUMMARY: Under the provisions of the Mineral Leasing Act of 1920, as amended, the Bureau of Land Management-Eastern States (BLM-ES) received a petition for reinstatement of oil and gas lease MSES 56250 from Antares Exploration Fund, L.P. for lands in Perry County, Mississippi. The petition was filed on time and was accompanied by all the rentals due since the date the lease terminated under the law.

FOR FURTHER INFORMATION CONTACT: Kemba Anderson-Artis, Supervisory Land Law Examiner, BLM-ES, 7450 Boston Boulevard, Springfield, Virginia, at (703) 440-1659. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: No valid lease has been issued affecting these lands. The lessee has agreed to the new lease terms for rental and royalties at rates of $10 per acre or fraction thereof, per year, and 16 ⅔ percent, respectively. The lessee has paid the required $500 administrative fee and $163 to reimburse the BLM for the cost of publishing this Notice in the Federal Register. The lessee has met all the requirements for reinstatement as set out in Sections 31(d) and (e) of the Mineral Leasing Act of 1920 (30 U.S.C. 188), and the BLM is proposing to reinstate the lease effective June 1, 2011, under the original terms and conditions of the lease and the increased rental and royalty rates cited above.

Kemba Anderson-Artis,
Supervisory, Land Law Examiner, Division of Natural Resources.

[FR Doc. 2011-26193 Filed 10-7-11; 8:45 am]

BILLING CODE 4310-GJ-P